DEPARTMENT OF COMMERCE

National Oceanic and Atmospheric Administration

RIN 0648-XC697

Gulf of Mexico Fishery Management Council; Public Meeting

AGENCY: National Marine Fisheries Service (NMFS), National Oceanic and Atmospheric Administration (NOAA), Commerce.

ACTION: Council to convene public Advisory Panel meeting.

SUMMARY: The Gulf of Mexico Fishery Management Council will convene a meeting of the Coastal Migratory Pelagics (CMP) Advisory Panel (AP) via webinar.

DATES: The meeting will convene at 10 a.m. eastern time on Wednesday, June 12, 2013 and is expected to end no later than 11:30 a.m.

ADDRESSES: The meeting will be held via webinar. The registration link for the webinar is https://www2.gotomeeting.com/register/416806802 and will be posted to the Gulf Council's Web site.

Council address: Gulf of Mexico Fishery Management Council, 2203 North Lois Avenue, Suite 1100, Tampa, FL 33607.

FOR FURTHER INFORMATION CONTACT: Ryan Rindone; Gulf of Mexico Fishery Management Council; telephone: (813) 348-1630.

SUPPLEMENTARY INFORMATION: The Gulf of Mexico Fishery Management Council (Council) will convene its Coastal Migratory Pelagics (CMP) Advisory Panel (AP). The CMP AP will review materials related to the development and selection of preferred alternatives in Action 6 of Draft Amendment 20 to the Coastal Migratory Pelagics Fishery Management Plan for Gulf of Mexico fisheries.

Copies of the agenda and other related materials can be obtained by calling (813) 348-1630.

Although other non-emergency issues not on the agenda may come before the CMP AP for discussion, in accordance with the Magnuson-Stevens Fishery Conservation and Management Act, those issues may not be the subject of formal action during this meeting. Actions of the CMP AP will be restricted to those issues specifically identified in the agenda and any issues arising after publication of this notice that require emergency action under Section 305(c) of the Magnuson-Stevens Fishery Conservation and Management Act, provided the public has been notified of the Council's intent to take action to address the emergency.

Dated: May 21, 2013.
Tracey L. Thompson,
Acting Deputy Director, Office of Sustainable Fisheries, National Marine Fisheries Service.

[FR Doc. 2013-12452 Filed 5-23-13; 8:45 am]

BILLING CODE 3510-22-P